DEPARTMENT OF LABOR

Employment and Training Administration

[TA-W-38, 617; TA-W-38, 617C]

Garan Manufacturing Corporation Carthage, MI, Garan Manufacturing Corporation, Ozark, AR; Amended Certification Regarding Eligibility To Apply for Worker Adjustment Assistance

In accordance with section 223 of the Trade Act of 1974 (19 U.S.C. 2273) the Department Labor issued a Certification of Eligibility to Apply for Worker Adjustment Assistance on February 9, 2001, applicable to workers of Garan Manufacturing Corporation, Carthage, Mississippi. The notice was published in the Federal Register on April 5, 2001 (66 FR 18118).

At the request of the petitioners, the Department reviewed the certification for workers of the subject firm. New information shows that worker separations will occur at the Ozark, Arkansas location of Garan Manufacturing Corporation when it closes by the end of 2001. The workers are engaged in the production of the children's knitwear.

Accordingly, the Department is amending this certification to cover workers at the subject firms' Ozark, Arkansas location.

The intent of the Department's certification is to include all workers of Garan Manufacturing Corporation adversely affected by increased imports of children's knitwear.

The amended notice applicable to TA-W-38,617 is hereby issued as follows:

All workers of Garan Manufacturing Corporation, Carthage, Mississippi (TA-W-38,617) and Ozark, Arkansas (TA-W-38,617C) who became totally or partially separated from employment on or after January 19, 2000, through February 9, 2003, are eligible to apply for adjustment assistance under Section 223 of the Trade Act of 1974.

Signed at Washington, D.C. this 2nd day of October, 2001.
Linda G. Poole,
Certifying Officer, Division of Trade Adjustment Assistance.

[FR Doc. 01-26048 Filed 10-16-01; 8:45 am]

BILLING CODE 4510-30-M